SMALL BUSINESS ADMINISTRATION

Data Collection Available for Public Comments

ACTION: 60-Day notice and request for comments.

SUMMARY: The Small Business Administration (SBA) intends to request approval from the Office of Management and Budget (OMB) for the collection of information described below. The Paperwork Reduction Act (PRA) requires federal agencies to publish a notice in the Federal Register concerning each proposed collection of information before submission to OMB, and to allow 60 days for public comment in response to the notice. This notice complies with that requirement.

DATES: Submit comments on or before November 21, 2025.

ADDRESSES: Send all comments to debankingcomments@sba.gov with the subject heading “60-day notice and request for comments.”

FOR FURTHER INFORMATION CONTACT: Alexander Heard, Office of Capital Access, alexander.heard@sba.gov, (202) 808-1579 and Shauniece Carter, Interim Agency Clearance Officer, Shauniece.carter@sba.gov, (202) 935-6942.

SUPPLEMENTARY INFORMATION: On August 7, 2025, President Donald J. Trump issued the Executive Order entitled: “Guaranteeing Fair Banking for All Americans” (the “Fair Banking Executive Order”) instructing the SBA, along with federal banking regulators, to end the practice of politicized or unlawful debanking—the practice where banks and financial services providers, both independently and at the direction of federal regulators, freeze or close accounts, deny loans, and refuse services to “politically disfavored” people and businesses. This information collection is necessary to evidence SBA Lender compliance with this Executive Order.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

PRA Number: To be assigned by OMB.

Title: Guaranteeing Fair Banking for All Americans Executive Order Reporting.

Description of Respondents: SBA Lenders.

Form Number: To be assigned.

Total Estimated Annual Responses: 5,000.

Total Estimated Annual Hour Burden: 10,000.

Shauniece Carter,
Interim Agency Clearance Officer.

[FR Doc. 2025-18279 Filed 9-19-25; 8:45 am]

BILLING CODE 8026-09-P